DEPARTMENT OF DEFENSE

Department of the Army; Corps of Engineers

Availability of Draft Tiered Environmental Impact Statement for the Baltimore Harbor and Channels Dredged Material Plan, MD

AGENCY: Department of the Army, U.S. Army Corps of Engineers, DOD.

ACTION: Notice of availability.

SUMMARY: In accordance with the requirements of the National Environmental Policy Act, the U.S. Army Corps of Engineers (USACE), Baltimore District has prepared a Draft Tiered Environmental Impact statement (TEIS) and Dredged Material Management Plan (DMMP) to analyze dredged material placement for the Port of Baltimore for 20 years of maintenance and new work dredging. USACE is making the document available to the public for review and comment through a Notice of Availability published in the Federal Register. The overall goal of the DMMP is to develop a plan to maintain, in an economically and environmentally sound manner, channels necessary for navigation for the Port of Baltimore, conduct dredged material placement in the most environmentally sound manner, and maximize the use of dredged material as a beneficial resource. The recommendations which will provide a minimum of 20 years of dredged material placement capacity for the Port of Baltimore are:

• Continued use of open water placement in Virginia (Dam Neck Open Water Placement; Rappahannock Shoal Deep Alternate Open Water Placement; and Wolf Trap Alternate Open Water Placement).

• Optimized use of existing dredged material management sites in Maryland, including Pooles Island Open Water Site, Hart-Miller Island Dredged Material Containment Facility, Cox Creek Confined Disposal Facility and Poplar Island Environmental Restoration Project (PIERP).

• Multiple confined disposal facilities for harbor material in Patapsco River.

• Large Island Restoration-Middle Chesapeake Bay.

• PIERP Expansion.

• Wetland Restoration-Dorchester County.

We are making the Draft TEIS available to the public for a 45-day review and comment period.

DATES: We must receive comments on or before March 28, 2005, to ensure consideration in final plan development. See SUPPLEMENTARY INFORMATION section for meeting dates.

ADDRESSES: Please send written comments concerning this proposed project to U.S. Army Corps of Engineers, Baltimore District, Attn: Mr. Mark Mendelsohn, Planning Division, P.O. Box 1715, Baltimore, MD 21203-1715. Please submit electronic comments to Mark.Mendelsohn@usace.army.mil.

FOR FURTHER INFORMATION CONTACT: Mr. Mark Mendelsohn, Biologist, USACE Baltimore District, Planning Division, (410) 962-9499 or (800) 295-1610.

SUPPLEMENTARY INFORMATION: A key mission of the U.S. Army Corps of Engineers is to provide safe, reliable, and efficient waterborne transportation systems (channels, harbors, and waterways) for movement of commerce, national security needs, and recreation. Accomplishing this successfully requires dredging of channels to adequately meet the needs of waterborne transportation. Operating and maintaining the nation's harbors and waterways, which includes the placement and/or management of dredged material, is an increasingly challenging task. USACE continues its priority mission to plan and implement sound management of dredged materials.

The USACE Engineering Regulation (ER) 1105-100 mandates that the USACE Districts develop a DMMP for all federally maintained navigation harbor projects where there is an indication of insufficient placement capacity to accommodate maintenance dredging for the next 20 years.

Two public meetings will be held for the Baltimore Harbor and Channels Dredged Material Management Plan. The first public meeting will be held at Queen Anne's Public Library, Stevensville Branch on March 7, 2005 beginning at 7 p.m. The second public meeting will be held at Essex Community College, in the Lecture Hall Building J on the first floor, on March 10, 2005 beginning at 7 p.m. Staff will be available one hour prior to meeting time. A map showing the location on the Essex Community College can be found at http://www.ccbcmd.edu/directory/essex/index.html. Both meetings will provide an opportunity for the public to present oral and/or written comments. All persons and organizations that have an interest in the DMMP are urged to attend the meeting and provide comments. Your comment must be contained in the body of your message; please do not send attached files. Please include your name and address in your message.

You may view the Draft TEIS and related information on our Web page at http://www.nab.usace.army.mil/projects/DMMP/index.html. USACE has distributed copies of the Draft TEIS to appropriate members of Congress, State and local government officials, Federal agencies, and other interested parties. Copies are available for public review at the following locations:

(1) Queen Anne's County Public Library, Stevensville Branch, 200 Library Circle, Stevensville, MD 21666.

(2) Essex County Public Library, 1110 Eastern Boulevard Baltimore, MD 21221.

(3) Anne Arundel County Public Library, 1410 West Street, Annapolis, MD 21401.

(4) St. Mary's County Public Library, 23250 Hollywood Road, Leonardtown, MD 20650.

(5) Somerset County Public Library, 11767 Beachwood St, Princess Anne, MD 21853.

(6) Dorchester County Public Library, 303 Gay St, Cambridge, MD 21613.

You may view the Draft TEIS and related information on our Web page at http://www.nab.usace.army.miml/projects.DMMP/index.html.

After the public comment period ends on March 28, 2005, USACE will consider all comments received. The Draft TEIS will be revised as appropriate and a Final TEIS will be issued. The Draft TEIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

Mark Mendelsohn,
Biologist, Baltimore District, USACE.

[FR Doc. 05-2483 Filed 2-8-05; 8:45 am]

BILLING CODE 3710-41-M